DEPARTMENT OF HEALTH AND HUMAN SERVICES

National Institutes of Health

Center for Scientific Review; Cancellation of Meeting

Notice is hereby given of the cancellation of the Center for Scientific Review Special Emphasis Panel, June 10, 2008, 6 a.m. to June 11, 2008, 6 p.m., National Institutes of Health, 6701 Rockledge Drive, Bethesda, MD 20892 which was published in the Federal Register on April 29, 2008, 73 FR 23257-23259.

The meeting is cancelled due to the applications being withdrawn.

Dated: May 7, 2008.
Jennifer Spaeth,
Director, Office of Federal Advisory Committee Policy.

[FR Doc. E8-10672 Filed 5-14-08; 8:45 am]

BILLING CODE 4140-01-M